ENVIRONMENTAL PROTECTION AGENCY

[EPA-HQ-OEI-2007-0412; FRL-8494-7]

Agency Information Collection Activities; Proposed Collection; Comment Request; Cross-Media Electronic Reporting and Recordkeeping Rule (Renewal); EPA ICR No. 2002.04, OMB Control No. 2025-0003

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 14, 2007.

ADDRESSES: Submit your comments, referencing Docket ID No. EPA-HQ-OEI-2007-0412, to (1) EPA online using http://www.regulations.gov (our preferred method), by e-mail to oei.docket@epa.gov, or by mail to: EPA Docket Center, Environmental Protection Agency, OEI Docket, Mail Code: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Katrail Holloway, Cross-Media Electronic Reporting and Recordkeeping Rule, Information Exchange & Services Division, Office of Environmental Information, 2823T, Environmental Protection Agency, 1200 Pennsylvania Ave., NW., Washington, DC 20460; telephone number: 202-566-2133; fax number: 202-566-1684; e-mail address: holloway.katrail@epa.gov.

SUPPLEMENTARY INFORMATION: EPA has submitted the following ICR to OMB for review and approval according to the procedures prescribed in 5 CFR 1320.12. On June 15, 2007, (72 FR 33216), EPA sought comments on this ICR pursuant to 5 CFR 1320.8(d). EPA received no additional comments on the renewal, during the comment period. Any additional comments on this ICR should be submitted to EPA and OMB within 30 days of this notice.

EPA has established a public docket for this ICR under Docket ID No. EPA-HQ-OEI-2007-0412, which is available for online viewing at www.regulations.gov, or in person viewing at the Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Office of Environmental Information Docket is 202-566-1752.

Use EPA's electronic docket and comment system at www.regulations.gov, to submit or view public comments, access the index listing of the contents of the docket, and to access those documents in the docket that are available electronically. Once in the system, select “docket search,” then key in the docket ID number identified above. Please note that EPA's policy is that public comments, whether submitted electronically or on paper, will be made available for public viewing at www.regulations.gov as EPA receives them and without change, unless the comment contains copyrighted material, Confidential Business Information (CBI), or other information whose public disclosure is restricted by statute. For further information about the electronic docket, go to www.regulations.gov.

Title: Cross-Media Electronic Reporting and Recordkeeping Rule (Renewal).

ICR Numbers: EPA ICR Number 2002.04, OMB Control Number 2025-0003.

ICR Status: This ICR is scheduled to expire on November 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The scope of this Information Collection Request will focus on the final electronic reporting components of CROMERRR, which is designed to allow EPA to comply with the Government Paperwork Elimination Act of 1998; to provide a uniform, technology-neutral framework for electronic reporting across all EPA programs; to allow EPA programs to offer electronic reporting as they become ready for CROMERRR; and to provide states with a streamlined process—together with uniform set of criteria—for approval of their electronic reporting provisions for all their EPA-authorized programs. Responses to the collection of information are voluntary. In order to accommodate CBI, the information collected must be in accordance with the confidentiality regulations set forth in 40 CFR Part 2, Subpart B. Additionally, EPA will ensure that the information collection procedures comply with the Privacy Act of 1974 and the OMB Circular 108.

Burden Statement: The annual public reporting and recordkeeping burden for this collection of information is estimated to average 0.69 per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State and Local Receiving Systems.

Estimated Number of Respondents: 220,826.

Frequency of Response: Annually.

Estimated Total Annual Burden Hours: 151,963.

Estimated Total Annual Cost: $10,763,740 which includes $4,450,658 annualized Capital Startup Costs, $657,707 annualized Operating and Maintenance (O&M) costs and $5,655,374 annualized Labor Costs.

Changes in the Estimates: There is no significant change in the ICR compared to the previous ICR. This is due to the regulations having not changed over the past three years and is not anticipated to change over the next three years. There is, however, an adjustment in the labor cost estimate. This is due to the inflation of the labor rates over the past three years.

Dated: November 7, 2007.
Sara Hisel-McCoy,
Director, Collection Strategies Division.

[FR Doc. E7-22225 Filed 11-13-07; 8:45 am]

BILLING CODE 6560-50-P